DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains and associated funerary objects in the possession of the American Museum of Natural History, New York, NY. The human remains and associated funerary objects were removed from an undesignated ruined pueblo in Cibola or McKinley Counties, NM.

This notice is published as part of the National Park Service's administrative responsibilities under NAGPRA, 25 U.S.C. (d)(3). The determinations within this notice are the sole responsibility of the museum, institution, or Federal agency that has control of the Native American human remains and associated funerary objects. The National Park Service is not responsible for the determinations within this notice.

A detailed assessment of the human remains and associated funerary objects was made by American Museum of Natural History professional staff in consultation with representatives of the Zuni Tribe of the Zuni Reservation, New Mexico.

In 1900, human remains representing a minimum of 17 individuals were removed by Dr. Aleš Hrdlička from an undesignated ruined pueblo 9 miles southwest of Zuni pueblo, NM. No known individuals were identified. The two associated funerary objects are a Pinedale black-on-white ceramic bowl and a Heshota utla polychrome ceramic pitcher. The undesignated ruined pueblo site from which the human remains and associated funerary objects were removed is believed to be on the Zuni Indian Reservation.

Pinedale black-on-white and Heshota utla polychrome ceramics were produced during the Pueblo III and Pueblo IV periods, roughly between A.D. 1250 and A.D. 1450. The human remains probably were interred during that period. The human remains have been identified as Native American based on geographic and documentary evidence. The human remains were found in the pre- and postcontact territory of the Zuni people. Although there was some migration into this area between A.D. 1175 and the Coronado entrada in A.D. 1540, the continuity of a core architectural and ceramic tradition during the time period in which these human remains were interred suggests an ethnic continuity in the area. Zuni oral history provides further evidence for the existence of a shared group identity between the past population represented by these human remains and associated funerary objects and the present-day Zuni Tribe of the Zuni Reservation, New Mexico.

Although the lands from which the human remains were removed are currently under the jurisdiction of the U.S. Department of the Interior, Bureau of Indian Affairs, the American Museum of Natural History has possession and control of the human remains and associated funerary objects because their removal from tribal land predates the permit requirements established by the Antiquities Act of 1906.

Officials of the American Museum of Natural History have determined that, pursuant to 25 U.S.C. 3001 (9-10), the human remains listed above represent the physical remains of 17 individuals of Native American ancestry. Officials of the American Museum of Natural History also have determined that, pursuant to 25 U.S.C. 3001 (3)(A), the two objects listed above are reasonably believed to have been placed with or near individual human remains at the time of death or later as part of the death rite or ceremony. Lastly, officials of the American Museum of Natural History have determined that, pursuant to 25 U.S.C. 3001 (2), there is a relationship of shared group identity that can be reasonably traced between the Native American human remains and associated funerary objects and the Zuni Tribe of the Zuni Reservation, New Mexico.

Representatives of any other Indian tribe that believes itself to be culturally affiliated with the human remains and associated funerary objects should contact Luc Litwinionek, Director of Cultural Resources, American Museum of Natural History, Central Park West at 79th Street, New York, NY 10024-5192, telephone (212) 769-5846, before September 19, 2003. Repatriation of the human remains and associated funerary objects to the Zuni Tribe of the Zuni Reservation, New Mexico may proceed after that date if no additional claimants come forward.

The American Museum of Natural History is responsible for notifying the Zuni Tribe of the Zuni Reservation, New Mexico that this notice has been published.

Dated: July 24, 2003.
John Robbins,
Assistant Director, Cultural Resources.

[FR Doc. 03-21343 Filed 8-19-03; 8:45 am]

BILLING CODE 4310-70-S